DEPARTMENT OF TRANSPORTATION

Federal Aviation Administration

Notice of Availability, Notice of Public Comment Period, and Request for Comment on the Draft Environmental Assessment for the Sierra Space Dream Chaser Vehicle Operator License at the Shuttle Landing Facility, Brevard County, Florida

AGENCY: Federal Aviation Administration (FAA), Department of Transportation (DOT).

ACTION: Notice of availability, notice of public comment period, and request for comment.

SUMMARY: The FAA is announcing the availability of and requesting comments on the Draft Environmental Assessment for the Sierra Space Dream Chaser Vehicle Operator License at the Shuttle Landing Facility, Brevard County, Florida (Draft EA).

DATES: Comments must be received on or before January 24, 2022.

ADDRESSES: Comments should be mailed to Ms. Chelsea Clarkson, Sierra Space at SLF EA, c/o ICF, 9300 Lee Highway, Fairfax, VA 22031. Comments may also be emailed to SierraSpaceSLF@icf.com.

FOR FURTHER INFORMATION CONTACT: Ms. Chelsea Clarkson, Environmental Protection Specialist, Federal Aviation Administration, c/o ICF, 9300 Lee Highway, Fairfax, VA 22031; phone (202) 267-4745; and email SierraSpaceSLF@icf.com.

SUPPLEMENTARY INFORMATION: The FAA is the lead agency. The National Aeronautics and Space Administration (NASA), U.S. Space Force (USSF), U.S. Fish and Wildlife Service (USFWS), the National Park Service (NPS), and the U.S. Coast Guard (USCG) are cooperating agencies for the Draft EA. The FAA is evaluating Sierra Space's proposal to conduct Dream Chaser reentry operations at the Shuttle Landing Facility in Brevard County, Florida. Sierra Space's reentry operations would require an FAA Vehicle Operator License.

The FAA has posted the Draft EA and a presentation describing the project and potential environmental impacts on the project website: https://www.faa.gov/space/stakeholder_engagement/shuttle_landing_facility/.

At this time, the FAA does not intend to host a public meeting regarding the Draft EA. If you would like to request a public meeting, email SierraSpaceSLF@icf.com by January 10, 2022.

The FAA encourages all interested parties to provide comments concerning the scope and content of the Draft EA. Before including your address, phone number, email address, or other personal identifying information in your comment, be advised that your entire comment—including your personal identifying information—may be made publicly available at any time. While you can ask the FAA in your comment to withhold from public review your personal identifying information, the FAA cannot guarantee that we will be able to do so.

The FAA prepared the Draft Environmental Assessment (EA) for public review pursuant to Section 102(2)(C) of the National Environmental Policy Act of 1969 (NEPA), as amended (42 United States Code 4321, et seq.), Council on Environmental Quality (CEQ) NEPA implementing regulations (40 Code of Federal Regulations Parts 1500 to 1508), and FAA Order 1050.1F, Environmental Impacts: Policies and Procedures.

Issued in Washington, DC, on December 23, 2021.
James R. Repcheck,
Manager, Safety Authorization Division.

[FR Doc. 2021-28329 Filed 1-5-22; 8:45 am]

BILLING CODE 4910-13-P